DEPARTMENT OF DEFENSE

Office of the Secretary

[Transmittal No. 22-40]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-40 with attached Policy Justification and Sensitivity of Technology.

Dated: June 10, 2024.
Aaron T. Siegel,
Alternate OSD Federal Register Liaison Officer, Department of Defense.

BILLING CODE 6001-FR-P

BILLING CODE 6001-FR-C

Transmittal No. 22-40

Notice of Proposed Issuance of Letter of Offer Pursuant to Section 36(b)(1) of the Arms Export Control Act, as amended

(i) Prospective Purchaser: Government of Japan

(ii) Total Estimated Value:

Major Defense Equipment * | $257 million
Other | $ 36 million
TOTAL | $293 million

(iii) Description and Quantity or Quantities of Articles or Services under Consideration for Purchase:

Major Defense Equipment (MDE):

One hundred fifty (150) AIM-120C-7/C-8 Advanced Medium Range Air-to-Air Missiles (AMRAAMs)

Three (3) AIM-120 AMRAAM Guidance Sections

Non-MDE:

Also included are AIM-120 missile containers and control sections; weapon support and support equipment; classified software delivery and support; spare and repair parts, consumables, and accessories; classified publications and technical documentation; U.S. Government and contractor engineering, technical and logistical support services; and other related elements of logistical and program support.

(iv) Military Department: Air Force (JA-D-YAX, JA-D-YBD)

(v) Prior Related Cases, if any: JA-D-YAI, JA-D-YAK, JA-D-YAO, JA-D-YCM, JA-D-YAU

(vi) Sales Commission, Fee, etc., Paid, Offered, or Agreed to be Paid: None known at this time

(vii) Sensitivity of Technology Contained in the Defense Article or Defense Services Proposed to be Sold: See Attached Annex

(viii) Date Report Delivered to Congress: July 25, 2022

* As defined in Section 47(6) of the Arms Export Control Act.

POLICY JUSTIFICATION

Japan—AIM-120C-7/8 Advanced Medium-Range Air-to-Air Missiles (AMRAAMs)

The Government of Japan has requested to buy one hundred fifty (150) AIM-120C-7/C-8 AMRAAMs; and three (3) AIM-120 AMRAAM Guidance Sections. Also included are AIM-120 missile containers and control sections; weapon support and support equipment; classified software delivery and support; spare and repair parts, consumables, and accessories; classified publications and technical documentation; U.S. Government and contractor engineering, technical and logistical support services; and other related elements of logistical and program support. The estimated total program cost is $293 million.

This proposed sale will support the foreign policy goals and national security objectives of the United States by improving the security of a major ally that is a force for political stability and economic progress in the Asia-Pacific region.

The proposed sale will improve Japan's capability to meet current and future threats by defending the Japanese homeland and U.S. personnel stationed there. Japan already has AMRAAMs in its inventory and will have no difficulty absorbing these missiles into its armed forces.

The proposed sale of this equipment and support will not alter the basic military balance in the region.

The principal contractor will be Raytheon Missile Systems, Tucson, AZ. There are no known offset agreements proposed in connection with this potential sale.

Implementation of this proposed sale will not require the assignment of any additional U.S. Government or contractor representatives to Japan.

There will be no adverse impact on U.S. defense readiness as a result of this proposed sale.

Transmittal No. 22-40

Notice of Proposed Issuance of Letter of Offer Pursuant to Section 36(b)(1) of the Arms Export Control Act

Annex

Item No. vii

(vii) Sensitivity of Technology:

1. The AIM-120C-7/C-8 AMRAAM is a supersonic, air launched, aerial intercept, guided missile featuring digital technology and micro-miniature solid-state electronics. This potential sale will include AMRAAM Guidance Section. AMRAAM capabilities include look-down/shootdown, multiple launches against multiple targets, resistance to electronic countermeasures, and interception of high and low-flying and maneuvering targets. The AIM-120C-8 is a form, fit, and function refresh of the AIM-120C-7 and is the next generation to be produced.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Japan can provide substantially the same degree of protection for the sensitive technology being released as the U.S. Government. This sale is necessary in furtherance of the U.S. foreign policy and national security objectives outlined in the Policy Justification.

5. All defense articles and services listed in this transmittal have been authorized for release and export to the Government of Japan.

[FR Doc. 2024-12955 Filed 6-12-24; 8:45 am]

BILLING CODE 6001-FR-P